DEPARTMENT OF TRANSPORTATION

[DOT Docket No. DOT-OST-2010-0074]

The Future of Aviation Advisory Committee (FAAC) Subcommittee on Labor and World-Class Workforce; Notice of Meeting

AGENCY: Office of the Secretary of Transportation, Department of Transportation.

ACTION: The Future of Aviation Advisory Committee (FAAC) Subcommittee on Labor and World-class Workforce; notice of meeting.

SUMMARY: The Department of Transportation (DOT), Office of the Secretary of Transportation, announces a meeting of the FAAC Subcommittee on Labor and World-class Workforce, which will be held at 501 3rd Street NW., Washington, DC 20001. This notice announces the date, time, and location of the meeting, which will be open to the public. The purpose of the FAAC is to provide advice and recommendations to the Secretary of Transportation to ensure the competitiveness of the U.S. aviation industry and its capability to manage effectively the evolving transportation needs, challenges, and opportunities of the global economy. The Subcommittee is charged with ensuring the availability and quality of a workforce necessary to support a robust, expanding commercial aviation industry in light of the changing socio-economic dynamics of the world's technologically advanced economies. Among other matters, the Subcommittee will examine the future employment requirements of the aviation industry, its educational requirements, and the critical/technical skills that will be needed by our future aviation workforce.

DATES: The meeting will be held on July 8, 2010, from 1 p.m. to 4 p.m. e.d.t.

ADDRESSES: The meeting will be held at the Communications Workers of America Building, 501 3rd Street, NW., Washington, DC 20001.

Public Access: The meeting is open to the public. (See below for registration instructions.)

Public Comments: Persons wishing to offer written comments and suggestions concerning the activities of the advisory committee or Subcommittee should file comments in the Public Docket (Docket Number DOT-OST-2010-0074 at http://www.Regulations.Gov) or alternatively through the FAAC@dot.gov e-mail. If comments and suggestions are intended specifically for the Subcommittee on Labor and World-class Workforce, the term “Labor/Workforce” should be listed in the subject line of the message. In order to ensure that such comments can be considered by the Subcommittee before its July 8, 2010, meeting, public comments must be filed by 5 p.m e.d.t. on Monday, June 28, 2010.

SUPPLEMENTARY INFORMATION:

Background

Under section 10(a)(2) of the Federal Advisory Committee Act (5 U.S.C. App. 2), we are giving notice of a meeting of the FAAC Subcommittee on Labor and World-class Workforce taking place on July 8, 2010, from 1 p.m. to 4 p.m. e.d.t., at 501 3rd Street, NW., Washington, DC 20001. Background information may be found at the FAAC Web site, located at http://www.dot.gov/faac/. The agenda includes—

1. Discussion of topics offered by Subcommittee members for referral to the full Committee on the subject of competitiveness and viability of the aviation industry.

2. Establishment of a plan and timeline for further work.

3. Identification of priority issues for the second Subcommittee meeting.

Registration

The meeting room can accommodate up to 50 members of the public. Persons desiring to attend must pre-register through e-mail to FAAC@dot.gov. The term “Registration: Labor/Workforce” must be listed in the subject line of the message, and admission will be limited to the first 50 persons to pre-register and receive a confirmation of their pre-registration. No arrangements are being made for audio or video transmission or for oral statements or questions from the public at the meeting. Minutes of the meeting will be taken and will be posted on the FAAC Web site at http://www.dot.gov/faac/.

Request for Special Accommodation

The DOT is committed to providing equal access to this meeting for all participants. If you need alternative formats or services because of a disability, please send a request to FAAC@dot.gov with the term “Special Accommodations” listed in the subject line of the message by close of business on June 28, 2010.

FOR FURTHER INFORMATION CONTACT: Terri L. Williams, Acting Executive Director, Corporate Learning and Development Office of Corporate Learning and Development, Assistant Administrator for Human Resources Federal Aviation Administration, 800 Independence Avenue, SW., Washington, DC 20591; (202) 267-3456, extension 7472; or Regis P. Milan, Office of Aviation Analysis, U.S. Department of Transportation; Room 86W309, 1200 New Jersey Avenue, SE., Washington, DC 20590; (202) 366-2349.

Issued in Washington, DC, on June 14, 2010.
Pamela Hamilton-Powell,
Designated Federal Official, Future of Aviation Advisory Committee.

[FR Doc. 2010-14667 Filed 6-16-10; 8:45 am]

BILLING CODE P